DEPARTMENT OF HEALTH AND HUMAN SERVICES

National Institutes of Health

National Institute of Environmental Health Sciences; Amended Notice of Meeting

Notice is hereby given of a change in the meeting of the National Institute of Environmental Health Sciences Special Emphasis Panel, November 15, 2005, 1 p.m. to November 15, 2005, 3:30 p.m. Nat. Inst. of Environmental Health Sciences, Building 101, Rodbell Auditorium, 111 T.W. Alexander Drive, Research Triangle Park, NC, 27709 which was published in the Federal Register on October 24, 2005, FR 70 204 61464.

The meeting will be held December 6, 2005 instead of November 15, 2005. The meeting is closed to the public.

Dated: November 2, 2005.
Anna Snouffer,
Acting Director, Office of Federal Advisory Committee Policy.

[FR Doc. 05-22481 Filed 11-9-05; 8:45am]

BILLING CODE 4140-01-M